ENVIRONMENTAL PROTECTION AGENCY

40 CFR Part 257

[EPA-HQ-OLEM-2019-0173; FRL-10017-88-OLEM]

RIN 2050-AH11

Hazardous and Solid Waste Management System: Disposal of CCR; A Holistic Approach to Closure Part B: Alternate Demonstration for Unlined Surface Impoundments; Correction

AGENCY: Environmental Protection Agency (EPA).

ACTION: Final rule; correction.

SUMMARY: The Environmental Protection Agency (EPA or the Agency) is correcting a typographical error in a final rule published in the Federal Register on November 12, 2020. The EPA finalized regulations under the Resource Conservation and Recovery Act (RCRA) with procedures to allow certain facilities to request approval to operate an existing coal combustion residuals (CCR) surface impoundment with an alternate liner, among other things.

DATES: This final rule correction is effective on December 14, 2020.

FOR FURTHER INFORMATION CONTACT: Michelle Long, Office of Resource Conservation and Recovery, Materials Recovery and Waste Management Division, Environmental Protection Agency, 1200 Pennsylvania Avenue NW, MC: 5304P, Washington, DC 20460; telephone number: (703) 347-8953; email address: Long.Michelle@epa.gov. For more information on this rulemaking, please visit https://www.epa.gov/coalash.

SUPPLEMENTARY INFORMATION: The EPA finalized procedures to allow certain facilities to request approval to use an alternate liner for CCR surface impoundments (85 FR 72506, November 12, 2020), but after publication the Agency identified a typographical error in one of the amendatory instructions. Specifically, instruction 6 directed that paragraphs (f)(14) through (23) be added to § 257.105. However, an additional paragraph (f)(24) was also set out under § 257.105 that the Agency failed to include in instruction 6. See 85 FR 72543. That is, EPA intended instruction 6 to read “Amend § 257.105 by adding paragraphs (f)(14) through (24) to read as follows:” This document corrects instruction 6 by directing that paragraphs (f)(14) through (24) be added to § 257.105 as intended.

Correction

In FR Doc. 2020-23327, appearing on page 72506 in the Federal Register of Thursday, November 12, 2020, on page 72543, in the first column, correct instruction 6 to read as follows:

6. Amend § 257.105 by adding paragraphs (f)(14) through (24) to read as follows:

§ 257.105 Recordkeeping requirements.

* * * * *

(f) * * *

(14) The application and any supplemental materials submitted in support of the application as required by § 257.71(d)(1)(i)(E).

(15) The alternative liner demonstration as required by § 257.71(d)(1)(ii)(D).

(16) The alternative liner demonstration extension request as required by § 257.71(d)(2)(ii)(D).

(17) The documentation prepared for the preliminary demonstration as required by § 257.71(d)(2)(ii)(E).

(18) The notification of an incomplete application as required by § 257.71(d)(2)(iii)(B).

(19) The decision on the application as required by § 257.71(d)(2)(iii)(F).

(20) The final decision on the alternative liner demonstration as required by § 257.71(d)(2)(vii).

(21) The alternative source demonstration as required under § 257.71(d)(2)(ix)(A)(4).

(22) The final decision on the alternative source demonstration as required under § 257.71(d)(2)(ix)(A)(5).

(23) The final decision on the trend analysis as required under § 257.71(d)(2)(ix)(B)(3).

(24) The decision that the alternative source demonstration has been withdrawn as required under § 257.71(d)(2)(ix)(C).

* * * * *

Peter Wright,
Assistant Administrator, Office of Land and Emergency Management.

[FR Doc. 2020-27031 Filed 12-11-20; 8:45 am]

BILLING CODE 6560-50-P